DEPARTMENT OF ENERGY

Federal Energy Regulatory Commission

Combined Notice of Filings #1

Take notice that the Commission received the following electric corporate filings:

Docket Numbers: EC20-70-000.

Applicants: Longview Power.

Description: Application for Authorization Under Section 203 of the Federal Power Act, et al. of Longview Power, LLC.

Filed Date: 6/3/20.

Accession Number: 20200603-5105.

Comments Due: 5 p.m. ET 6/24/20.

Take notice that the Commission received the following exempt wholesale generator filings:

Docket Numbers: EG20-176-000.

Applicants: Central 40, LLC.

Description: Self-Certification of Central 40, LLC.

Filed Date: 6/2/20.

Accession Number: 20200602-5110.

Comments Due: 5 p.m. ET 6/23/20.

Docket Numbers: EG20-177-000.

Applicants: Pioneer Solar (CO), LLC.

Description: Self-Certification of EG of Pioneer Solar (CO), LLC.

Filed Date: 6/2/20.

Accession Number: 20200602-5126.

Comments Due: 5 p.m. ET 6/23/20

Docket Numbers: EG20-178-000.

Applicants: Maverick Creek Wind, LLC.

Description: Notice of Self-Certification of Exempt Wholesale Generation Status of Maverick Creek Wind, LLC.

Filed Date: 6/3/20.

Accession Number: 20200603-5042.

Comments Due: 5 p.m. ET 6/24/20.

Docket Numbers: EG20-179-000.

Applicants: Northern Colorado Wind Energy Center II, LLC.

Description: Notice of Self-Certification of Exempt Wholesale Generator Status of Northern Colorado Wind Energy Center II, LLC.

Filed Date: 6/3/20.

Accession Number: 20200603-5118.

Comments Due: 5 p.m. ET 6/24/20.

Take notice that the Commission received the following electric rate filings:

Docket Numbers: ER10-1910-017; ER10-1910-019; ER10-1910-020; ER10-1911-017; ER10-1911-019; ER10-1911-020.

Applicants: Duquesne Power, LLC, Duquesne Light Company.

Description: Supplement to December 23, 2019, et al. Notice(s) of Change in Status of the Duquesne MBR Sellers.

Filed Date: 6/2/20.

Accession Number: 20200602-5042.

Comments Due: 5 p.m. ET 6/23/20.

Docket Numbers: ER20-57-002; ER16-2019-003; ER16-2520-003; ER17-1607-002; ER17-1608-002; ER17-318-003; ER18-97-002; R19-115-002; ER19-119-003; ER19-2476-003; ER19-8-003; ER20-1799-001; ER20-1800-001; ER20-1801-002; ER20-27-002; ER20-339-002; ER20-422-002; ER20-58-002; ER20-59-002.

Applicants: GA Solar 3, LLC, Twiggs County Solar, LLC, FL Solar 1, LLC, FL Solar 4, LLC, FL Solar 5, LLC, AZ Solar 1, LLC, Wright Solar Park LLC, Five Points Solar Park LLC, Sunray Energy 2, LLC, Sunray Energy 3 LLC, Three Peaks Power, LLC, Grand View PV Solar Two LLC, Sweetwater Solar, LLC, Techren Solar I LLC, Techren Solar II LLC, Techren Solar III LLC, Techren Solar IV LLC, Techren Solar V LLC, MS Solar 3, LLC.

Description: Notice of Non-Material Change in Status of GA Solar 3, LLC, et. al.

Filed Date: 6/2/20.

Accession Number: 20200602-5157.

Comments Due: 5 p.m. ET 6/23/20.

Docket Numbers: ER19-1956-002.

Applicants: Cube Yadkin Transmission LLC.

Description: Compliance filing: Order No. 845 Compliance Filing to be effective 5/22/2019.

Filed Date: 6/3/20.

Accession Number: 20200603-5068.

Comments Due: 5 p.m. ET 6/24/20.

Docket Numbers: ER20-732-002.

Applicants: California Independent System Operator Corporation.

Description: Compliance filing: 2020-06-03 Compliance Filing—Deliverability to be effective 3/3/2020.

Filed Date: 6/3/20.

Accession Number: 20200603-5117.

Comments Due: 5 p.m. ET 6/24/20.

Docket Numbers: ER20-1971-000.

Applicants: West Hines Solar I LLC.

Description: Baseline eTariff Filing: Baseline new SFA to be effective 6/3/2020.

Filed Date: 6/2/20.

Accession Number: 20200602-5082.

Comments Due: 5 p.m. ET 6/23/20.

Docket Numbers: ER20-1972-000.

Applicants: Rock Garden Solar LLC.

Description: Baseline eTariff Filing: Baseline new SFA to be effective 6/3/2020.

Filed Date: 6/2/20.

Accession Number: 20200602-5087.

Comments Due: 5 p.m. ET 6/23/20.

Docket Numbers: ER20-1973-000.

Applicants: Suntex Solar LLC.

Description: Baseline eTariff Filing: Baseline new SFA to be effective 6/3/2020.

Filed Date: 6/2/20.

Accession Number: 20200602-5093.

Comments Due: 5 p.m. ET 6/23/20.

Docket Numbers: ER20-1974-000.

Applicants: Duke Energy Carolinas, LLC.

Description: § 205(d) Rate Filing: DEC- Lockhart NITSA (SA No. 407) Revised to be effective 6/1/2020.

Filed Date: 6/2/20.

Accession Number: 20200602-5107.

Comments Due: 5 p.m. ET 6/23/20.

Docket Numbers: ER20-1975-000.

Applicants: Southern California Edison Company.

Description: Tariff Cancellation: Notice of Termination of GIA & DSA SA Nos. 875 and 876 City of Commerce to be effective 6/4/2020.

Filed Date: 6/3/20.

Accession Number: 20200603-5000.

Comments Due: 5 p.m. ET 6/24/20.

Docket Numbers: ER20-1976-000.

Applicants: Ameren Transmission Company, Lucky Corridor, LLC, Mora Line, LLC.

Description: Request for Continued Negotiated Rate Authority and Approval of Open Solicitation Process of Ameren Transmission Company, et al.

Filed Date: 6/2/20.

Accession Number: 20200602-5159.

Comments Due: 5 p.m. ET 6/23/20.

Docket Numbers: ER20-1977-000.

Applicants: Versant Power.

Description: § 205(d) Rate Filing: OATT Notice of Succession to Versant Power to be effective 5/11/2020.

Filed Date: 6/3/20.

Accession Number: 20200603-5037.

Comments Due: 5 p.m. ET 6/24/20.

Docket Numbers: ER20-1978-000.

Applicants: AEP Texas Inc.

Description: § 205(d) Rate Filing: AEPTX-Victoria Port Power II Interconnection Agreement to be effective 5/20/2020.

Filed Date: 6/3/20.

Accession Number: 20200603-5041.

Comments Due: 5 p.m. ET 6/24/20.

Docket Numbers: ER20-1979-000.

Applicants: AEP Texas Inc.

Description: § 205(d) Rate Filing: AEPTX-Victoria Port Power Interconnection Agreement to be effective 5/20/2020.

Filed Date: 6/3/20.

Accession Number: 20200603-5050.

Comments Due: 5 p.m. ET 6/24/20.

Docket Numbers: ER20-1980-000.

Applicants: Cedar Springs Wind, LLC.

Description: Baseline eTariff Filing: Cedar Springs Wind, LLC Application for MBR Authority to be effective 8/3/2020.

Filed Date: 6/3/20.

Accession Number: 20200603-5057.

Comments Due: 5 p.m. ET 6/24/20.

Docket Numbers: ER20-1981-000.

Applicants: Pioneer Solar (CO), LLC.

Description: Baseline eTariff Filing: Pioneer Solar (CO), LLC Market-Based Rate Tariff to be effective 6/4/2020.

Filed Date: 6/3/20.

Accession Number: 20200603-5059.

Comments Due: 5 p.m. ET 6/24/20.

Docket Numbers: ER20-1983-000.

Applicants: Central 40, LLC.

Description: Baseline eTariff Filing: Central 40, LLC Market-Based Rate Tariff to be effective 6/4/2020.

Filed Date: 6/3/20.

Accession Number: 20200603-5061.

Comments Due: 5 p.m. ET 6/24/20.

Docket Numbers: ER20-1984-000.

Applicants: RBC Energy Services LP.

Description: Notice of Cancellation of Market-Based Rate Tariff of RBC Energy Services LP.

Filed Date: 6/3/20.

Accession Number: 20200603-5082.

Comments Due: 5 p.m. ET 6/24/20.

Take notice that the Commission received the following electric securities filings:

Docket Numbers: ES20-41-000.

Applicants: Southern Indiana Gas and Electric Company.

Description: Application Under Section 204 of the Federal Power Act for Authorization to Issue Securities of Southern Indiana Gas and Electric Company, Inc.

Filed Date: 6/2/20.

Accession Number: 20200602-5163.

Comments Due: 5 p.m. ET 6/23/20.

Take notice that the Commission received the following electric reliability filings:

Docket Numbers: RR19-7-001.

Applicants: North American Electric Reliability Corporation.

Description: Compliance Filing of the North American Electric Reliability Corporation in response to Commission Order on the 5-year Performance Assessment.

Filed Date: 6/1/20.

Accession Number: 20200601-5404.

Comments Due: 5 p.m. ET 6/22/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2020.
Nathaniel J. Davis, Sr.,
Deputy Secretary.

[FR Doc. 2020-12463 Filed 6-8-20; 8:45 am]

BILLING CODE 6717-01-P